DEPARTMENT OF HOMELAND SECURITY

Federal Emergency Management Agency

Agency Information Collection Activities: Proposed Collection; Comment Request

AGENCY: Federal Emergency Management Agency, Emergency Preparedness and Response Directorate, Department of Homeland Security.

ACTION: Notice and request for comments.

SUMMARY: The Federal Emergency Management Agency, as part of its continuing effort to reduce paperwork and respondent burden, invites the general public and other Federal agencies to take this opportunity to comment on a proposed information collection. In accordance with the Paperwork Reduction Act of 1995 (44 U.S.C. 3506(c)(2)(A)), this notice seeks comments concerning State Administrative Plans for the Hazard Mitigation Grant Program (HMGP).

SUPPLEMENTARY INFORMATION: The development of the State Administrative Plan is required as a condition of receiving HMGP funding under section 404 of the Robert T. Stafford Disaster Relief and Emergency Assistance Act of 1988. Section 404 mandates that FEMA must approve the plan before awarding any project grant assistance to a community or State applicant. The regulations for the State Administrative Plan are codified in 44 CFR 206.437, implementing the provisions to the Robert T. Stafford Disaster Relief and Emergency Assistance Act, Pub. L. 93-288 as amended.

Collection of Information

Title: State Administrative Plan for the Hazard Mitigation Grant Program.

Type of Information Collection: Revision of a currently approved collection.

OMB Number: 1660-0026.

Abstract: The State Administrative Plan is a procedural guide that details how the State will administer the HMGP funding. The Administrative Plan may take any form including a chapter within a comprehensive State mitigation program strategy. The State may forward an Administrative Plan to the Regional Director for approval at any time or prior to or immediately after the request for a disaster declaration. Independent of the frequency of disaster declarations, each State should review and update the plan at least annually.

Affected Public: State, local, or tribal government, and Federal government.

Estimated Total Annual Burden Hours: 383.

Estimated Cost: The estimated annual wage rates cost to States and territories for the burden hours associated with State Administrative Plan updates is $9,141 ($23.88 per hour x 383 total annual burden hours).

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments via mail, email or facsimile to Muriel B. Anderson, Chief, Records Management Branch, Information Resources Management Division, Information Technology Services Directorate, Federal Emergency Management Agency, Emergency Preparedness and Response Directorate, U.S. Department of Homeland Security, 500 C Street, SW., Room 316, Washington, DC 20472, or e-mail address: InformationCollections@dhs.gov, or facsimile number (202) 646-3347.

FOR FURTHER INFORMATION CONTACT: Contact Kathleen Wissmann, Program Specialist, Mitigation Division, (202) 646-4372 for additional information. You may contact Ms. Anderson for copies of the proposed information collection at the above e-mail address or facsimile number.

Dated: December 12, 2003.
Edward W. Kernan,
Division Director, Information Resources Management Division, Information Technology Services Directorate.

[FR Doc. 03-31394 Filed 12-19-03; 8:45 am]

BILLING CODE 9110-01-P